DEPARTMENT OF AGRICULTURE

Forest Service

Vernal Ranger District Travel Management Plan, Ashley National Forest; Uintah, Duchesne, and Daggett Counties, UT

AGENCY: Forest Service, USDA.

ACTION: Notice of Intent To Prepare an Environmental Impact Statement.

SUMMARY: The Forest Service will prepare an Environmental Impact Statement (EIS) to disclose the effects of designating National Forest System (NFS) roads and trails available for public motorized use on the Vernal Ranger District within the Ashley National Forest. The decision will be to determine whether to include routes that are not currently NFS roads or trails open for public motorized use, establish a season of use and/or type of vehicle use for roads and trails, the prohibition of wheeled motorized vehicle travel off designated NFS roads and trails by the public (except as allowed by permit or other authorization), and change dispersed vehicle camping designations from allowing travel up to 300 feet off road to 150 feet off road. A National Environmental Policy Act (NEPA) decision is not required to designate roads and trails for public motorized uses that are currently part of the National Forest System of roads and trails.

Once a decision is made, a Motor Vehicle Use Map (MVUM) will be prepared, in compliance with the 2005 Forest Service Travel Management Rule (36 CFR part 212). The MVUM will show all the routes that are designated for public motorized use on the Vernal Ranger District. The MVUM will be the primary tool used to determine compliance and enforcement with motorized vehicle use designations on the forest. Those existing routes and other non-system routes not designated open on the MVUM will be legally closed to motorized travel. The decisions on motorized travel will not include motorized over-the-snow travel.

DATES: The comment period on the proposed action will extend 45 days from the date the Notice of Intent is published in the Federal Register. The draft environmental impact statement is expected July 2009 and the final environmental impact statement is expected November 2009.

ADDRESSES: Send written comments to Kris Rutledge, Travel Management Team Coordinator, Ashley National Forest 355 N Vernal Ave., Vernal, UT 84078 or call (435) 781-5196.

Electronic comments may be e-mailed to comments-intermtn-ashley@fs.fed.us, contain “Vernal Ranger District Travel Management Plan” in the subject line, and must be submitted in MS Word (*.doc) or rich text format (*.rtf).

FOR FURTHER INFORMATION CONTACT: Kris Rutledge, Project Coordinator, at the Ashley National Forest 355 N. Vernal Ave., Vernal, UT, by phone (435) 781-5196, or e-mail krutledge@fs.fed.us.

SUPPLEMENTARY INFORMATION: There will be a concurrent NOI and scoping for the Roosevelt/Duchesne and Flaming Gorge Ranger Districts Travel Management Plan. The Roosevelt/Duchesne and Flaming Gorge Ranger Districts are also located within the Ashley National Forest. However, because of differences in travel management within the Vernal Ranger District that currently allow motorized use on existing, non-designated routes in certain areas, and the large number of user-created routes on the District, it is anticipated that the assessment for the EIS will take longer than for the Roosevelt/Duchesne and Flaming Gorge Ranger Districts. Therefore, the analysis will be completed seperately and at a later date. Cummulative effects will be analyzed for both EISs.

Purpose and Need for Action

The Ashley National Forest has determined that there is a need to improve management and enforcement of off-highway vehicle travel policy on the Forest. This need includes three fundamental management considerations.

1. The need to better accommodate current motorized use and to address future growth. There has been rapid growth in OHV use that was not anticipated when the 1982 Ashley National Forest Plan was written. Over the past few decades, the availability and capability of motorized vehicles, particularly off-highway vehicles (OHVs) and sport utility vehicles (SUVs) has increased tremendously. Utah is experiencing a high level of OHV use (196 % increase in eight years), with an even greater increase in use in the Uintah Basin (360% increase in eight years).

2. The need to have a travel plans that is simple to understand and implement, and consistent with other Forests and land management agencies. The model used for the existing travel plan relies on “open unless signed or mapped closed” designations that are complicated to interpret and, as a result, are difficult to enforce. The lack of simple and consistent travel policies among other Forests and land management agencies is confusing for the public; inhibits cooperative law enforcement; and has resulted in unplanned roads and trails, erosion, watershed and habitat degradation, and detrimental impacts to cultural resource sites. Compaction and erosion are the primary effects of OHV use on soils. Riparian areas and aquatic dependent species are particularly vulnerable to OHV use. The Travel Management Rule, 36 CFR part 212, provides policy for ending this trend of unauthorized route proliferation and managing the Forest transportation system in a sustainable manner through designation of motorized NFS roads, trails, and areas, and the prohibition of cross-country travel.

3. The need for changes to the existing transportation system. This will help provide wheeled, motorized access to dispersed recreation opportunities (camping, hunting, fishing, hiking, horseback riding, etc.); provide a diversity of wheeled motorized recreation opportunities (4X4 vehicles, motorcycles, ATVs, passenger vehicles, etc.); and reduce the potential for OHV conflicts and impacts to other resource uses and values.

It is Forest Service policy to provide a diversity of road and trail opportunities for experiencing a variety of environments and modes of travel consistent with the National Forest recreation role and land capability (FSM 2353.03(2)). In meeting these needs, the proposed action must also achieve the following purposes:

A. Avoid impacts to cultural resources.

B. Provide for public safety.

C. Provide for a diversity of recreational opportunities.

D. Assure adequate access to public and private lands.

E. Provide for adequate maintenance and administration of designations based on availability of resources and funding to do so.

F. Minimize damage to soil, vegetation and other forest resources.

G. Avoid harassment of wildlife and significant disruption of wildlife habitat.

H. Minimize conflicts between wheeled motor vehicles and existing or proposed recreational uses of NFS lands.

I. Minimize conflicts among different classes of wheeled motor vehicle uses of NFS lands or neighboring federal lands.

J. Assure compatibility of wheeled motor vehicle use with existing conditions in populated areas, taking into account sound, emissions, etc.

K. Assure compatibility of motorized vehicle use within Inventoried Roadless Areas according to 3CFR294.12a.

L. Have valid existing rights of use and access (rights-of-way).

M. Provide consistency of use on roads that cross jurisdictional boundaries.

N. Include consideration for compatibility with existing Potential for Wilderness Evaluation studies.

Proposed Action

The proposed action has been developed by tentatively designating a motorized travel plan that moves towards desired conditions identified in the pre-project assessment. The proposed travel plan was compared to the existing travel plan to identify changes from current conditions. The proposed action includes addition of non-system routes, closure of system routes, and identification of current system routes where a change in use or route classification is needed to create the desired travel plan.

The designations will set specific seasons of use, where appropriate, and specify the type of use (e.g., street legal vehicle, OHVs, 4-wheel drive) for roads and trails. The Forest Service will produce a Motor Vehicle Use Map (MVUM) depicting those routes that are open to the general public for wheeled motorized use. The final implementation of the MVUM will include consideration of any conflicts with special use permits, easements, or rights of use that may have been unknown or not identified at the time of the proposed action.

A consequence of designating routes open for public motorized travel is that existing routes not designated as open would not be available for public motorized travel.

1. Changes in Mileage to the National Forest Transportation System

The Vernal Ranger District currently manages and maintains approximately 430 miles of NFS roads and 89 miles of NFS motorized trails. Based on the stated purpose and need for action, the Vernal Ranger District proposes to add approximately 8.96 miles of existing non-system routes to the road system and 28.70 miles to the motorized trails system. The District also proposes to restrict motorized travel on 4.96 miles of NFS roads and 27.46 miles of NFS motorized trails. These changes would bring the total NFS roads on the Vernal Ranger District to approximately 434 miles and the miles of the NFS motorized trails to 90.24.

2. Allowing Non-Street Legal Vehicles (Ohvs) Access to NFS Roads Currently Open to Street Legal Vehicles Only

The Ashley National Forest maintenance level 3, 4, and 5 roads are subject to State traffic laws (36 CFR 212.5(a)(1)). Level 5 roads are open to highway legal vehicles only and are shown on the current travel maps as Highway and Improved Paved Roads. Maintenance level 3 and 4 roads are suitable for passenger cars and are shown on the current travel maps as Improved Roads that are gravel or native dirt. Maintenance level 2 roads include 4-wheel drive vehicles and are not suitable for passenger cars. These roads are shown on the current travel maps as Unimproved Roads. Both improved gravel or dirt and unimproved roads may be managed for street legal vehicles only, or a mix of street legal and non-street legal vehicles (OHVs). This is referred to as “mixed traffic”.

The Vernal Ranger District proposes to add mixed traffic use to 61.19 miles of road that are currently designated for street legal vehicles only. The Vernal Ranger District proposes to change 6.90 miles of road currently designated as mixed traffic use to allow only street legal vehicle use. In addition, the Vernal Ranger District proposes to complete other changes in vehicle types of use on 3.51 miles of road or trail.

3. Allowing Motorized Access to NFS Roads That Are Currently Closed

The Vernal Ranger District is proposing to open 23.9 miles of NFS roads that are currently closed to public motorized access.

4. Change the Allowable Distance for Motorized Dispersed Camping Off a Designated Road or Motorized Trail From 300 to 150 Feet

The current travel plan allows motorized dispersed camping up to 300 feet from a designated motorized route. In order to establish consistency with other National Forests in Utah, the allowable area for motorized dispersed camping will be reduced to 150 feet from a designated motorized route.

The Ashley National Forest recognizes its unique niche for dispersed camping and plans to continue to offer a multitude of dispersed camping opportunities where appropriate. With this in mind, the Vernal Ranger District has closely examined routes that provide this opportunity. Some of these routes have been included in the proposals outlined in Item 1 above.

In addition, the Vernal Ranger District has been inventorying the existing numerous short routes that are appropriately used for dispersed camping, but are further than 150 feet from a designated motorized route. Those routes meeting an initial review are shown as “Potential Dispersed Camping Routes under Consideration” on the proposed action map. A determination of type of vehicle class for these routes will also be required. It is anticipated that most routes will be designated as mixed traffic use roads or motorized trails greater than 50 inches.

There are 23.82 miles of Potential Dispersed Camping Routes under Consideration being proposed by the Vernal Ranger District.

Note: Maps describing the existing transportation system and maps and tables describing the proposed action can found at http://www.fs.fed.us/r4/ashley/projects/travel_management. In addition, the maps and tables will be available for viewing at: Supervisor's Office, 355 N. Vernal Ave., Vernal, UT 84078.

No Action Alternative

The No Action Alternative would be to designate all of the motorized system roads and trails as identified in the existing travel management plans for Vernal Ranger Districts, and would not address existing routes that are identified as unauthorized (i.e. non-system) routes by the Forest Service. Those existing routes not designated as open would not be available for public motorized travel. The opportunity to motorize disperse camp up to 300 feet from a designated motorized route would continue to be available.

Possible Alternatives

The Forest is expecting that the public input will generate either thematic concerns or route-specific issues that may be addressed by modifying the proposed action to create a new alternative or alternatives.

Decommissioning or obliterating of routes, which may involve ground-disturbing activities, would be a part of the Proposed Action or alternatives. The environmental consequences of having routes closed to motorized travel will be evaluated in this environmental analysis. Identification of new routes that would meet the goals and objectives for a motorized transportation system on NFS lands will be, as appropriate, a part of this travel management planning.

Responsible Official

The Responsible Official is Kevin Elliott, Forest Supervisor, Ashley National Forest, 355 N. Vernal Ave., Vernal, UT 84078.

Nature of Decision To Be Made

Based on the purpose and need for the proposed action, the Forest Supervisor will evaluate the Proposed Action and other alternatives in order to make the following decisions for the specific National Forest System lands:

1. Designating or eliminating unclassified travel ways;

2. Determine the allowed season and/or type of use for those routes open to motorized travel; and

3. Determine if any changes in the extent and nature of motorized dispersed camping are warranted.

Travel management direction for routes that will not have a change in travel management direction will be shown on the MVUM (pursuant to 36 CFR Part 212). Routes, for which travel management direction is being changed, will be analyzed in the EIS for the Vernal Ranger District Travel Management Plan.

Scoping Process

Public participation will be especially important at several points during the analysis. The Forest Service will be seeking information, comments, and assistance from the federal, state, tribal, local agencies, and other individuals or organizations that may be interested in or affected by the proposed action. A series of public opportunities are scheduled to explain the proposed travel plan and route designation process and to provide an opportunity for public input. Dates for these scoping meetings will be posted on the Ashley National Forest web page at http://www.fs.fed.us/r4/ashley/projects/travelmanagement and in local newspapers prior to the meetings.

The Forest Service will consider all public scoping comments and concerns that have been submitted, as well as resource related input from the interdisciplinary team and other agency resource specialists. This input will be used to identify issues to consider in the environmental analysis. A comprehensive list of issues will be determined before the full range of alternatives is developed and the environmental analysis is begun.

The Notice of Intent is expected to be published in the Federal Register. The comment period on the proposed action will extend 45 days from the date the Notice of Intent is published in the Federal Register.

The draft environmental impact statement is expected to be filed with the Environmental Protection Agency (EPA) and to be available for public review by February 2009. EPA will publish a notice of availability of the draft EIS in the Federal Register. The comment period on the draft EIS will extend 45 days from the date the EPA notice appears in the Federal Register. At that time, copies of the draft EIS will be distributed to interested and affected agencies, organizations, and members of the public for their review and comment. It is very important that those interested in the management of the Ashley National Forest participate at that time.

The final EIS is scheduled to be completed May 2009. In the final EIS, the Forest Service is required to respond to comments received during the comment period that pertain to the environmental consequences discussed in the draft EIS and applicable laws, regulations, and policies considered in making the decision.

Preliminary Issues

Important goals for the project are to create a motorized travel plan that is simple to understand, consistent with other public land management agencies in Utah, and is enforceable. Protections for threatened and endangered animal and plant habitats, cultural resources, roadless considerations, and the need to maintain motorized and non-motorized recreational opportunities have also directed the development and design of the proposed action.

Comment Requested

This notice of intent initiates the scoping process that guides the development of the environmental impact statement.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). In addition, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, is part of the public record on this proposal, and will be available for public inspection.

(Authority: 40 CFR 1501.7 and 1508.22; Forest Service Handbook 1909.15, Section 21)

Dated: November 2, 2007.
Kevin B. Elliott,
Forest Supervisor.

[FR Doc. E7-22030 Filed 11-8-07; 8:45 am]

BILLING CODE 3410-11-P